DEPARTMENT OF ENERGY

Federal Energy Regulatory Commission

Notice of Application Ready for Environmental Analysis and Solicitation of Comments, Recommendations, Terms and Conditions, and Prescriptions

May 3, 2002.

Take notice that the following hydroelectric application has been filed with the Commission and is available for public inspection:

a. Type of Application: Original Minor License.

b. Project No.: P-11797-000.

c. Date filed: July 29, 1999.

d. Applicant: Grande Pointe Power Corporation.

e. Name of Project: Three Rivers Hydroelectric Project.

f. Location: On the St. Joseph River in the city of Three Rivers, St. Joseph County, Michigan. The project does not utilize federal lands.

g. Filed Pursuant to: Federal Power Act, 16 USC 791(a)—825(r).

h. Applicant Contact:Mr. Monroe E. Learn, Grand Pointe Power Corporation, 503 West Michigan Avenue, Three Rivers, MI 54601.

Ph. # 1-(616)273-8828.

i. FERC Contact: Mr. Sean Murphy, e-mail sean.murphy@frec.gov or telephone (202) 219-2964.

j. Deadline for filing comments, recommendations, terms and conditions and prescriptions: 60 days from the date of issuance of this notice.

All documents (original and eight copies) should be filed with: Magalie R. Salas, Secretary, Federal Energy Regulatory Commission, 888 First Street, NE., Washington, DC 20426.

Comments, recommendations, terms and conditions, and prescriptions, as well as protests and interventions, may be filed electronically via the Internet in lieu of paper. See 18 CFR 385.2001(a)(1)(iii) and the instructions on the Commission's Web site (http://www.ferc.gov) under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. This application has been accepted and is ready for environmental analysis.

l. Description of the Project: The project consists of the following existing facilities: (1) A right earthen embankment, 750 feet long; (2) a left earthen embankment, 200 feet long; (3) a 283 foot long spillway section with 19 structural steel slide gates, each 15 feet wide and 4.8 feet high yielding an overall spillway elevation of 797.2 feet NGVD; (4) a 601-acre reservoir with a normal water surface elevation of 797.0 feet NGVD; (5) a powerhouse containing 3 vertical Francis turbines each connected to a generator unit for a total installed capacity of 900 kW; and (6) appurtenant facilities. The average annual energy generation is 3,844,920 kWh. Power generated by the project is sold to the city of Sturgis.

m. A copy of the application is on file with the Commission and is available for public inspection. This filing may also be viewed on the Web at http://www.ferc.gov using the “RIMS” link-select “Docket #” and follow the instructions (call 202 208-2222 for assistance). The applicant also has a copy available for inspection and reproduction at the address in item h. above.

n. Public notice of the filing of the initial development application, which has already been given, established the due date for filing competing applications or notices of intent. Under the Commission's regulations, any competing development application must be filed in response to and in compliance with public notice of the initial development application. No competing applications or notices of intent may be filed in response to this notice.

o. The Commission directs, pursuant to Section 4.34(b) of the Regulations (see order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS,” “REPLY COMMENTS,” “RECOMMENDATIONS,” “TERMS AND CONDITIONS,” OR “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

Magalie R. Salas,
Secretary.

[FR Doc. 02-11599 Filed 5-8-02; 8:45 am]

BILLING CODE 6717-01-P